DEPARTMENT OF EDUCATION

[Docket No.: ED-2012-ICCD-0047]

Agency Information Collection Activities; Submission to the Office of Management and Budget for Review and Approval; Comment Request; Needs Sensing Survey Under the Regional Educational Laboratory Program (REL)

AGENCY: Department of Education (ED), Institute of Education Sciences (IES)

ACTION: Notice.

SUMMARY: In accordance with the Paperwork Reduction Act of 1995 (44 U.S.C. chapter 3501 et seq.), ED is proposing a new information collection.

DATES: Interested persons are invited to submit comments on or before December 6, 2012.

ADDRESSES: Comments submitted in response to this notice should be submitted electronically through the Federal eRulemaking Portal at http://www.regulations.gov by selecting Docket ID number ED-2012-ICCD-0047 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E117, Washington, DC 20202-4537.

FOR FURTHER INFORMATION CONTACT: Electronically mail ICDocketMgr@ed.gov. Please do not send comments here.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Needs Sensing Survey under the Regional Educational Laboratory Program (REL).

OMB Control Number: Pending.

Type of Review: New collection, request for a new OMB Control Number.

Respondents/Affected Public: State, Local or Tribal Governments.

Total Estimated Number of Annual Responses: 2,240.

Total Estimated Number of Annual Burden Hours: 983.

Abstract: The needs assessment consists of an online survey of a sample of school board members, district administrators, principals, and teachers in Illinois, Indiana, Iowa, Michigan, Minnesota, Ohio, and Wisconsin. The purpose of the sample survey is to assess: the importance these populations attach to the four issues identified in advance by REL Midwest as priorities for the region; for each issue, the types of data and analysis supports, and research and evaluation needs which respondents anticipate would be of particular value; and what factors would increase the likelihood respondents and the populations they represent would turn to the REL for data and analysis supports, or research and evaluation needs in the future. The results of the survey will be used to prioritize the assistance that REL Midwest provides to educators in the region for utilizing their longitudinal data systems, conducting high quality research and evaluation; learning about the best education research; and incorporating data into policy and practice.

Dated: November 1, 2012.
Darrin A. King,
Director, Information Collection Clearance Division, Privacy, Information and Records Management Services, Office of Management.

[FR Doc. 2012-27072 Filed 11-5-12; 8:45 am]

BILLING CODE 4000-01-P